DEPARTMENT OF COMMERCE

International Trade Administration

[A-533-863]

Corrosion-Resistant Steel Products From India: Partial Rescission of Antidumping Duty Administrative Review; 2016-2017

AGENCY: Enforcement and Compliance, International Trade Administration, Department of Commerce.

DATES: Applicable December 22, 2017.

FOR FURTHER INFORMATION CONTACT: Rachel Greenberg, Office V, Antidumping and Countervailing Duty Operations, Enforcement and Compliance, International Trade Administration, U.S. Department of Commerce, 1401 Constitution Avenue NW, Washington, DC 20230; telephone: (202) 482-0652.

Background

On July 3, 2017, the Department of Commerce (the Department) published a notice of opportunity to request an administrative review of the antidumping duty (AD) order on corrosion-resistant steel products from India covering the period January 4, 2016, through June 30, 2017.¹ The Department received a timely request from the petitioners ² for an AD administrative review of seven companies.³ On September 13, 2017, pursuant to the request from the petitioners, the Department published a notice of initiation of administrative review with respect to Atlantis International Services Company Ltd; JSW Coated Products Limited; JSW Steel Ltd.; Uttam Galva Steels Limited; Uttam Galva Steels (BVI) Limited; Uttam Galva Steels, Netherlands, B.V.; and Uttam Value Steels Limited.⁴ On December 12, 2017, the petitioners withdrew their request for review of Atlantis International Services Company Ltd; Uttam Galva Steels Limited; Uttam Galva Steels (BVI) Limited; Uttam Galva Steels, Netherlands, B.V.; and Uttam Value Steels Limited.⁵

¹ See Antidumping or Countervailing Duty Order, Finding, or Suspended Investigation; Opportunity to Request Administrative Review, 82 FR 30833 (July 3, 2017).

² The petitioners are AK Steel Corporation, ArcelorMittal USA LLC, California Steel Industries, Inc., Nucor Corporation, Steel Dynamics, Inc., and United States Steel Corporation.

³ See The petitioners' letter, “Request for Administrative Review,” dated July 31, 2017.

⁴ See Initiation of Antidumping and Countervailing Duty Administrative Reviews, 82 FR 42974 (September 13, 2017).

⁵ See The petitioners' letter, “Partial Withdrawal of Administrative Review Request,” dated December 12, 2017.

Rescission in Part

Pursuant to 19 CFR 351.213(d)(1), the Secretary will rescind an administrative review, in whole or in part, if a party that requested the review withdraws the request within 90 days of the date of publication of the notice of initiation of the requested review. The Department initiated this review on September 13, 2017, and the petitioners partially withdrew their request on December 12, 2017, which is within the 90-day period, and is thus timely. In accordance with 19 CFR 351.213(d)(1), because the petitioners' partial withdrawal of their request for review is timely and because no other party requested a review of these companies, we are rescinding this review, in part, with respect to the following companies: Atlantis International Services Company Ltd; Uttam Galva Steels Limited; Uttam Galva Steels (BVI) Limited; Uttam Galva Steels, Netherlands, B.V.; and Uttam Value Steels Limited. The petitioners did not withdraw the request for review of JSW Coated Products Limited or JSW Steel Ltd. As such, this review will continue with respect to JSW Coated Products Limited and JSW Steel Ltd.

Assessment

The Department will instruct U.S. Customs and Border Protection (CBP) to assess anti-dumping duties on all appropriate entries. For the companies for which this review is rescinded, antidumping duties shall be assessed at rates equal to the cash deposit of estimated antidumping duties required at the time of entry, or withdrawal from warehouse, for consumption, during the period January 4, 2016, through June 30, 2017, in accordance with 19 CFR 351.212(c)(1)(i). The Department intends to issue assessment instructions to CBP 15 days after the date of publication of this notice.

Notification to Importers

This notice serves as a reminder to importers of their responsibility under 19 CFR 351.402(f)(2) to file a certificate regarding the reimbursement of antidumping duties prior to liquidation of the relevant entries during this review period. Failure to comply with this requirement could result in the presumption that reimbursement of the antidumping duties occurred and the subsequent assessment of doubled antidumping duties.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 751(a)(1) and 777(i)(1) of the Tariff Act of 1930, as amended, and 19 CFR 351.213(d)(4).

Dated: December 18, 2017.
James Maeder,
Senior Director performing the duties of Deputy Assistant Secretary for Antidumping and Countervailing Duty Operations.

[FR Doc. 2017-27613 Filed 12-21-17; 8:45 am]

BILLING CODE 3510-DS-P